ENVIRONMENTAL PROTECTION AGENCY

40 CFR Parts 52 and 81

[R04-OAR-2005-KY-0002-200531(b); FRL-8173-9]

Approval and Promulgation of Implementation Plans; Kentucky; Redesignation of the Boyd County SO2 Nonattainment Area

AGENCY: Environmental Protection Agency (EPA).

ACTION: Proposed rule.

SUMMARY: On May 13, 2005, and later clarified in a July 12, 2005, supplemental submittal, the Commonwealth of Kentucky submitted a request to redesignate the sulfur dioxide (SO2) nonattainment area of Boyd County to attainment of the National Ambient Air Quality Standards (NAAQS) for SO2. Boyd County is located within the Huntington-Ashland, West Virginia (WV)—Kentucky (KY)—Ohio (OH) Metropolitan Statistical Area (MSA), and the Boyd County SO2 nonattainment area is comprised of the southern portion of Boyd County. The Commonwealth also submitted, as revisions to the Kentucky State Implementation Plan (SIP), a maintenance plan for the area and a source-specific SIP revision for the Calgon Carbon Corporation facility in Catlettsburg, Kentucky. EPA is proposing to approve the redesignation request for the Boyd County SO2 nonattainment area and the maintenance plan for this area. The maintenance plan provides for the maintenance of the SO2 NAAQS in Boyd County for the next ten years. EPA is also proposing to approve the source-specific SIP revision for the Calgon Carbon Corporation facility.

DATES: Comments must be received on or before June 23, 2006.

ADDRESSES: Comments may be mailed to Stacy DiFrank, Regulatory Development Section, Air Planning Branch, Air, Pesticides and Toxics Management Division, U.S. Environmental Protection Agency, Region 4, 61 Forsyth Street, SW., Atlanta, Georgia 30303-8960. Please follow the detailed instructions described in the direct final rule, ADDRESSES section which is published in the Rules Section of this Federal Register.

FOR FURTHER INFORMATION CONTACT: Stacy DiFrank, (404) 562-9042, or by electronic mail at difrank.stacy@epa.gov.

SUPPLEMENTARY INFORMATION: For additional information on the approval of Kentucky's redesignation request and maintenance plan for the Boyd County SO2 nonattainment area, and source-specific SIP revision, please see the direct final rule which is published in the Rules Section of this Federal Register.

Dated: May 12, 2006.
A. Stanley Meiburg,
Acting Regional Administrator, Region 4.

[FR Doc. E6-7934 Filed 5-23-06; 8:45 am]

BILLING CODE 6560-50-P